INTERNATIONAL TRADE COMMISSION

[Investigation Nos. 731-TA-1229-1230 (Review)]

Monosodium Glutamate From China and Indonesia

Determination

On the basis of the record ¹ developed in the subject five-year reviews, the United States International Trade Commission (“Commission”) determines, pursuant to the Tariff Act of 1930 (“the Act”), that revocation of the antidumping duty orders on monosodium glutamate (“MSG”) from China and Indonesia would be likely to lead to continuation or recurrence of material injury to an industry in the United States within a reasonably foreseeable time.

¹ The record is defined in § 207.2(f) of the Commission's Rules of Practice and Procedure (19 CFR 207.2(f)).

Background

The Commission instituted these reviews on October 1, 2019 (84 FR 52129) and determined on January 6, 2020 that it would conduct full reviews (85 FR 3421, January 21, 2020). Notice of the scheduling of the Commission's reviews and of a public hearing to be held in connection therewith was given by posting copies of the notice in the Office of the Secretary, U.S. International Trade Commission, Washington, DC, and by publishing the notice in the Federal Register on May 13, 2020 (85 FR 28663). In light of the restrictions on access to the Commission building due to the COVID-19 pandemic, the Commission conducted its hearing through written testimony and video conference on August 25, 2020. All persons who requested the opportunity were permitted to participate.

The Commission made these determinations pursuant to section 751(c) of the Act (19 U.S.C. 1675(c)). The Commission determined that these reviews were extraordinarily complicated and extended the review period by up to 90 days. It completed and filed its determinations in these reviews on October 21, 2020. The views of the Commission are contained in USITC Publication 5127 (October 2020), entitled Monosodium Glutamate from China and Indonesia: Investigation Nos. 731-TA-1229-1230 (Review).

By order of the Commission.
Issued: October 21, 2020.
Lisa Barton,
Secretary to the Commission.

[FR Doc. 2020-23696 Filed 10-26-20; 8:45 am]

BILLING CODE 7020-02-P